DEPARTMENT OF COMMERCE

International Trade Administration

[C-580-913, C-821-834]

Oil Country Tubular Goods From the Republic of Korea and the Russian Federation: Initiation of Countervailing Duty Investigations

AGENCY: Enforcement and Compliance, International Trade Administration, Department of Commerce.

DATES: Applicable October 26, 2021.

FOR FURTHER INFORMATION CONTACT: Paul Litwin (the Republic of Korea) or Allison Hollander (the Russian Federation), AD/CVD Operations, Enforcement and Compliance, International Trade Administration, U.S. Department of Commerce, 1401 Constitution Avenue NW, Washington, DC 20230; telephone: (202) 482-6002 or (202) 482-2805, respectively.

SUPPLEMENTARY INFORMATION:

The Petitions

On October 6, 2021, the U.S. Department of Commerce (Commerce) received countervailing duty (CVD) petitions concerning imports of oil country tubular goods (OCTG) from the Republic of Korea (Korea) and the Russian Federation (Russia), filed in proper form on behalf of Borusan Mannesmann Pipe U.S., Inc.; PTC Liberty Tubulars LLC; U.S. Steel Tubular Products, Inc.; the United Steel, Paper and Forestry, Rubber, Manufacturing, Energy, Allied Industrial and Service Workers International Union, AFL-CIO, CLC; and Welded Tube USA, Inc. (the petitioners), domestic producers of OCTG and a certified union that represents workers engaged in the production of OCTG.¹ The Petitions were accompanied by antidumping duty (AD) petitions concerning imports of OCTG from Argentina, Mexico, and Russia.²

¹ See Petitioners' Letter, “Petitions for the Imposition of Antidumping and Countervailing Duties: Oil Country Tubular Goods from Argentina, Mexico, the Republic of Korea, and Russia,” dated October 6, 2021 (Petitions).

² Id.

On October 8, 12, and 19, 2021, Commerce requested supplemental information pertaining to certain aspects of the Petitions.³ The petitioners filed responses to these requests on October 12, 13, 15, and 21, 2021.⁴

³ See Commerce's Letter, “Petitions for the Imposition of Antidumping and Countervailing Duties on Imports of Oil Country Tubular Goods from Argentina, Mexico, the Republic of Korea, and the Russian Federation: Supplemental Questions,” dated October 8, 2021 (General Issues Questionnaire); Commerce's Letter, “Petition for the Imposition of Countervailing Duties on Imports of Oil Country Tubular Goods from the Russian Federation: Supplemental Questions,” dated October 8, 2021; Commerce's Letter, “Petition for the Imposition of Countervailing Duties on Imports of Oil Country Tubular Goods from the Republic of Korea: Supplemental Questions,” dated October 12, 2021; and Commerce's Letter, “Petitions for the Imposition of Antidumping and Countervailing Duties on Imports of Oil Country Tubular Goods from Argentina, Mexico, the Republic of Korea, and the Russian Federation: Supplemental Questions,” dated October 19, 2021.

⁴ See Petitioners' Letter, “Oil Country Tubular Goods from Argentina, Mexico, the Republic of Korea, and Russia: Response to General Issues Questionnaire,” dated October 12, 2021 (First General Issues Supplement); Petitioners' Letter, “Oil Country Tubular Goods from the Russian Federation: Responses to Supplemental Questions,” dated October 13, 2021; Petitioners' Letter, “Oil Country Tubular Goods from the Republic of Korea: Responses to Supplemental Questions,” dated October 15, 2021; and Petitioners' Letter, “Oil Country Tubular Goods from Argentina, Mexico, the Republic of Korea, and Russia: Response to Second General Issues Questionnaire,” dated October 21, 2021 (Second General Issues Supplement).

In accordance with section 702(b)(1) of the Tariff Act of 1930, as amended (the Act), the petitioners allege that the Government of Korea (GOK) and the Government of Russia (GOR) are providing countervailable subsidies, within the meaning of sections 701 and 771(5) of the Act, to producers of OCTG in Korea and Russia, and that such imports are materially injuring, or threatening material injury to, the domestic industry producing OCTG in the United States. Consistent with section 702(b)(1) of the Act and 19 CFR 351.202(b), for those alleged programs on which we are initiating CVD investigations, the Petitions were accompanied by information reasonably available to the petitioners supporting their allegations.

Commerce finds that the petitioners filed the Petitions on behalf of the domestic industry because the petitioners are interested parties, as defined in sections 771(9)(C) and (D) of the Act. Commerce also finds that the petitioners demonstrated sufficient industry support with respect to the initiation of the requested CVD investigations.⁵

⁵ See “Determination of Industry Support for the Petitions” section, infra.

Period of Investigation

Because the Petitions were filed on October 6, 2021, the period of investigation (POI) for these CVD investigations is January 1, 2020, through December 31, 2020.⁶

⁶ See 19 CFR 351.204(b)(2).

Scope of the Investigations

The merchandise covered by these investigations are oil country tubular goods from Korea and Russia. For a full description of the scope of these investigations, see the appendix to this notice.

Comments on Scope of the Investigations

On October 13, 2021, Commerce spoke with counsel to the petitioners regarding the proposed scope to ensure that the scope language in the Petitions is an accurate reflection of the products for which the domestic industry is seeking relief.⁷

⁷ See Memorandum, “Petitions for the Imposition of Antidumping and Countervailing Duties on Imports of Oil Country Tubular Goods from Argentina, Mexico, the Republic of Korea, and the Russian Federation; Phone Call with Counsel to the Petitioners,” dated October 13, 2021.

As discussed in the Preamble to Commerce's regulations, we are setting aside a period for interested parties to raise issues regarding product coverage (scope).⁸ Commerce will consider all comments received from interested parties and, if necessary, will consult with interested parties prior to the issuance of the preliminary determination. If scope comments include factual information,⁹ all such factual information should be limited to public information. To facilitate preparation of its questionnaires, Commerce requests that all interested parties submit scope comments by 5:00 p.m. Eastern Time (ET) on November 15, 2021, which is 20 calendar days from the signature date of this notice. Any rebuttal comments, which may include factual information, must be filed by 5:00 p.m. ET on November 26, 2021, which is the first business day after 10 calendar days from the initial comment deadline.¹⁰

⁸ See Countervailing Duties, 62 FR 27323 (May 19, 1997).

⁹ See 19 CFR 351.102(b)(21) (defining “factual information”).

¹⁰ The deadline for rebuttal comments falls on November 25, 2021, which is a Federal holiday. Commerce's practice dictates that where a deadline falls on a weekend or Federal holiday, the appropriate deadline is the next business day (in this instance, November 26, 2021). See Notice of Clarification: Application of “Next Business Day” Rule for Administrative Determination Deadlines Pursuant to the Tariff Act of 1930, As Amended, 70 FR 24533 (May 10, 2005).

Commerce requests that any factual information the parties consider relevant to the scope of the investigations be submitted during this time period. However, if a party subsequently finds that additional factual information pertaining to the scope of the investigations may be relevant, the party may contact Commerce and request permission to submit the additional information. All such comments must be filed on the records of each of the concurrent AD and CVD investigations.

Filing Requirements

All submissions to Commerce must be filed electronically using Enforcement and Compliance's Antidumping Duty and Countervailing Duty Centralized Electronic Service System (ACCESS), unless an exception applies.¹¹ An electronically filed document must be received successfully in its entirety by the time and date it is due.

¹¹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOK and the GOR of the receipt of the Petitions and provided an opportunity for consultations with respect to the Petitions.¹² Commerce held consultations with the GOK and the GOR on October 14 and 21, 2021, respectively.¹³

¹² See Commerce's Letter, “Countervailing Duty Petition on Oil Country Tubular Goods from the Republic of Korea,” dated October 8, 2021; and Commerce's Letter, “Invitation for Consultations,” dated October 7, 2021.

¹³ See Memorandum, “Consultations with Government of the Republic of Korea,” dated October 15, 2021; and Memorandum, “Countervailing Duty Petition on Oil Country Tubular Goods from the Russian Federation: Consultations with Officials from the Government of the Russian Federation,” dated October 21, 2021.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁶ Based on our analysis of the information submitted on the record, we have determined that OCTG, as defined in the scope, constitutes a single domestic like product, and we have analyzed industry support in terms of that domestic like product.¹⁷

¹⁶ See Petitions at Volume I at 20-22 and Exhibits I-11, I-13, I-14, and I-18.

¹⁷ For a discussion of the domestic like product analysis as applied to these cases and information regarding industry support, see Country-Specific Checklists, “Countervailing Duty Investigation Initiation Checklists: Oil Country Tubular Goods from the Republic of Korea and the Russian Federation,” dated concurrently with this Federal Register notice and on file electronically via ACCESS (Country-Specific CVD Initiation Checklists) at Attachment II, Analysis of Industry Support for the Antidumping and Countervailing Duty Petitions Covering Oil Country Tubular Goods from Argentina, Mexico, the Republic of Korea, and the Russian Federation (Attachment II).

In determining whether the petitioners have standing under section 702(c)(4)(A) of the Act, we considered the industry support data contained in the Petitions with reference to the domestic like product as defined in the “Scope of the Investigations,” in the appendix to this notice. To establish industry support, the petitioners provided the 2020 production of OCTG for the U.S. producers that support the Petitions.¹⁸ The petitioners estimated the 2020 production by non-petitioning companies using shipment data available for the entire OCTG industry and publicly available information on production and domestic shipments from the ITC's 2020 report from the sunset review of OCTG from India, Korea, Turkey, Ukraine, and the Socialist Republic of Vietnam.¹⁹ The petitioners estimated the total 2020 production of the domestic like product for the entire industry by adding their production to the estimated production of the non-petitioning producers.²⁰ We relied on data provided by the petitioners for purposes of measuring industry support.²¹

¹⁸ See Petitions at Volume I at Exhibits I-1 and I-3; see also First General Issues Supplement at 4 and Exhibits 4 and 8; and Second General Issues Supplement at Exhibits 3-5.

¹⁹ See Petitions at Volume I at Exhibits I-1 and I-2; see also First General Issues Supplement at6-10 and Exhibit 1 (containing Oil Country Tubular Goods from India, Korea, Turkey, Ukraine, and Vietnam, Inv. No. 701-TA-499-500 and 731-TA-1215-1216, 1221-1223 (Review), USITC Pub. 5090 (July 2020) (OCTG Review)) and Exhibit 8 (containing OCTG Review at Table III-5); and Second General Issues Supplement at Exhibit 5.

²⁰ See First General Issues Supplement at 7 and Exhibit 8; see also Second General Issues Supplement at Exhibit 5.

²¹ See Petitions at Volume I at Exhibits I-1 and I-2; see also First General Issues Supplement at3-10 and Exhibits 1, 4, 5, and 8; and Second General Issues Supplement at 1-2 and Exhibits 2-5.

On October 8, 15, and 20, 2021, we received comments on industry support from Tenaris Bay City, Inc.; IPSCO Tubulars Inc.; Maverick Tube Corporation; and Tenaris Global Services (U.S.A.) Corporation (collectively, Tenaris USA), U.S. producers of OCTG.²² On October 18, 2021, the petitioners responded to the comments from Tenaris USA.²³ On October 21, 2021, the GOR raised industry support comments during the consultations held regarding the Russia CVD Petition.²⁴ On October 21, 2021, we received comments from TMK Group (TMK), a Russian producer and exporter of OCTG.²⁵ On October 22, 2021, Tenaris USA filed its fourth submission with Commerce and formally indicated that it opposes the Petitions.²⁶ Also on October 22, 2021, the petitioners responded to TMK's comments.²⁷

²² See Tenaris USA's Letters, “Oil Country Tubular Goods from Argentina, Mexico, the Republic of Korea, and Russia: Factual Errors in Petitions,” dated October 8, 2021; and “Oil Country Tubular Goods from Argentina, Mexico, the Republic of Korea, and Russia: Comments on Petitioners' Standing,” dated October 15, 2021; and “Oil Country Tubular Goods from Mexico: Reply Comments on Petitioners' Standing,” dated October 20, 2021. In addition, on October 21, 2021, Commerce met via video conference with counsel to Tenaris USA to discuss its industry support comments. See Memorandum, “Petitions for the Imposition of Antidumping and Countervailing Duties on Imports of Oil Country Tubular Goods from Argentina, Mexico, the Republic of Korea, and the Russian Federation,” dated October 21, 2021.

²³ See Petitioners' Letter, “Oil Country Tubular Goods from Argentina, Mexico, Russia, and the Republic of Korea: Response to Tenaris Submission Concerning Petitioners' Standing,” dated October 18, 2021 (Petitioners' Letter).

²⁴ See Memorandum, “Countervailing Duty Petition on Oil Country Tubular Goods from the Russian Federation: Consultations with Officials from the Government of the Russian Federation,” dated October 21, 2021; see also GOR's Letter, “Countervailing Duty Investigation of Certain Oil Country Tubular Goods from the Russian Federation: Consultations,” dated October 25, 2021.

²⁵ See TMK's Letter, “Oil Country Tubular Goods from Russia: Comments on Petitioners' Standing,” dated October 21, 2021.

²⁶ See Tenaris USA's Letter, “Oil Country Tubular Goods from Argentina, Mexico, the Republic of Korea, and Russia: Comments on Petitioners' Second General Issues Questionnaire Response,” dated October 22, 2021. We note that, though Tenaris USA opposes the Petitions, it has not provided any production data for Commerce to include in the industry support calculation. See Country-Specific CVD Initiation Checklists at Attachment II at footnote 47.

²⁷ See Petitioners' Letter, “Oil Country Tubular Goods from Russia: Response to TMK's Comments on Petitioners' Standing,” dated October 22, 2021 (Petitioners' Letter II).

Based on the information provided in the Petitions, the First General Issues Supplement, Petitioners' Letter, the Second General Issues Supplement, Petitioners' Letter II, and other information readily available to Commerce, we determine that the domestic producers and workers have met the statutory criteria for industry support under section 702(c)(4)(A)(i) of the Act because the domestic producers (or workers) who support the Petitions account for at least 25 percent of the total production of the domestic like product.²⁸ Because the Petitions and supplemental submissions did not establish support from domestic producers (or workers) accounting for more than 50 percent of the total production of the domestic like product, Commerce was required to take further action in order to evaluate industry support.²⁹ In this case, Commerce was able to rely on other information, in accordance with section 702(c)(4)(D)(i) of the Act, to determine industry support.³⁰ Based on information provided in the Petitions, the First General Issues Supplement, Petitioners' Letter, the Second General Issues Supplement, Petitioners' Letter II, and other information readily available to Commerce, the domestic producers and workers have met the statutory criteria for industry support under section 702(c)(4)(A)(ii) of the Act because the domestic producers (or workers) who support the Petitions account for more than 50 percent of the production of the domestic like product produced by that portion of the industry expressing support for, or opposition to, the Petitions.³¹ We note that, even if all other U.S. producers of OCTG oppose the Petitions (including Tenaris USA), the supporters of the Petitions would still have the requisite level of industry support pursuant to section 702(c)(4)(A)(ii) of the Act.³² Accordingly, Commerce determines that the Petitions were filed on behalf of the domestic industry within the meaning of section 702(b)(1) of the Act.³³

²⁸ See Country-Specific CVD Initiation Checklists at Attachment II.

²⁹ See section 702(c)(4)(D) of the Act.

³⁰ See Country-Specific CVD Initiation Checklists at Attachment II.

³¹ Id.

³² Id.

³³ Id.

Injury Test

Because Korea and Russia are “Subsidies Agreement Countries” within the meaning of section 701(b) of the Act, section 701(a)(2) of the Act applies to these investigations. Accordingly, the ITC must determine whether imports of the subject merchandise from Korea and/or Russia materially injure, or threaten material injury to, a U.S. industry.

Allegations and Evidence of Material Injury and Causation

The petitioners allege that imports of the subject merchandise are benefitting from countervailable subsidies and that such imports threaten to cause material injury to the U.S. industry producing the domestic like product. In addition, the petitioners allege that subject imports exceed the negligibility threshold provided for under section 771(24)(A) of the Act.³⁴

³⁴ See Petitions at Volume I at 28 and ExhibitI-22.

The petitioners contend that the industry's injured condition is illustrated by a significant and increasing volume of subject imports; reduced market share; underselling and price suppression; lost sales and revenues; declines in production, U.S. shipments, and capacity utilization; decline in employment; and adverse impact on the domestic industry's financial performance.³⁵ We assessed the allegations and supporting evidence regarding material injury, threat of material injury, causation, as well as negligibility, and we have determined that these allegations are properly supported by adequate evidence and meet the statutory requirements for initiation.³⁶

³⁵ Id. at 1-2, 28-48 and Exhibits I-1, I-5, I-6,I-8, I-9, I-11, I-13, I-14, I-20, I-22 through I-34; see also First General Issues Supplement at 10.

³⁶ See Country-Specific CVD Initiation Checklists at Attachment III, Analysis of Allegations and Evidence of Material Injury and Causation for the Antidumping and Countervailing Duty Petitions Covering Oil Country Tubular Goods from Argentina, Mexico, the Republic of Korea, and the Russian Federation.

Initiation of CVD Investigations

Based upon our examination of the Petitions on OCTG from Korea and Russia, including supplemental information provided by the petitioners, we find that the Petitions meet the requirements of section 702 of the Act. Therefore, we are initiating CVD investigations to determine whether imports of OCTG from Korea and Russia benefit from countervailable subsidies conferred by the GOK and the GOR, respectively. In accordance with section 703(b)(1) of the Act and 19 CFR 351.205(b)(1), unless postponed, we will make our preliminary determinations no later than 65 days after the publication date of these initiations.

Korea

Based on our review of the Petition on Korean OCTG, we find that there is sufficient information to initiate a CVD investigation on 46 alleged programs. For a full discussion of the basis for our decision to initiate on each program, see Korea CVD Initiation Checklist. A public version of the initiation checklist for this investigation is available on ACCESS.

Russia

Based on our review of the Petition on Russian OCTG, we find that there is sufficient information to initiate a CVD investigation on 12 alleged programs. For a full discussion of the basis for our decision to initiate on each program, see Russia CVD Initiation Checklist. A public version of the initiation checklist for this investigation is available on ACCESS.

Respondent Selection

The petitioners named 287 companies in Korea and 14 companies in Russia as producers/exporters of OCTG.³⁷ Commerce intends to follow its standard practice in CVD investigations and calculate company-specific subsidy rates in these investigations.

³⁷ See Volume I of the Petitions at Exhibit I-19.

In the event that Commerce determines that the number of companies in Korea or Russia is large and it cannot individually examine each company based upon Commerce's resources, where appropriate, Commerce intends to select respondents based on U.S. Customs and Border Protection (CBP) data for U.S. imports of OCTG from Korea and Russia during the POI under the appropriate Harmonized Tariff Schedule of the United States subheadings listed in the “Scope of the Investigations,” in the appendix.

On October 19, 2021, Commerce released CBP data for U.S. imports of OCTG from Korea and Russia under administrative protective order (APO) to all parties with access to information protected by APO and indicated that interested parties wishing to comment regarding the CBP data and respondent selection must do so within three business days of the publication date of the notice of initiation of these CVD investigations.³⁸ Commerce will not accept rebuttal comments regarding the CBP data or respondent selection. Interested parties must submit applications for disclosure under APO in accordance with 19 CFR 351.305(b). Instructions for filing such applications may be found on the Commerce's website at http://enforcement.trade.gov/apo.

³⁸ See Memoranda, “Countervailing Duty Petition on Imports of Oil Country Tubular Goods from the Russian Federation: Release of U.S. Customs and Border Protection Data,” dated October 19, 2021; and “Countervailing Duty Petition on Imports of Oil Country Tubular Goods from the from the Republic of Korea: Release of U.S. Customs and Border Protection Data,” dated October 19, 2021.

Comments on CBP data and respondent selection must be filed electronically using ACCESS. An electronically filed document must be received successfully, in its entirety, by ACCESS no later than 5:00 p.m. ET on the specified deadline.

Distribution of Copies of the Petitions

In accordance with section 702(b)(4)(A) of the Act and 19 CFR 351.202(f), a copy of the public version of the Petitions has been provided to the GOK and GOR via ACCESS. To the extent practicable, Commerce will attempt to provide a copy of the public version of the Petitions to each exporter named in the Petitions, as provided under 19 CFR 351.203(c)(2).

ITC Notification

Commerce will notify the ITC of our initiation, as required by section 702(d) of the Act.

Preliminary Determination by the ITC

The ITC will preliminarily determine, within 45 days after the date on which the Petitions were filed, whether there is a reasonable indication that imports of OCTG from Korea and Russia are materially injuring or threatening material injury to a U.S. industry.³⁹ A negative ITC determination for any country will result in the investigation being terminated with respect to that country.⁴⁰ Otherwise, the investigations will proceed according to statutory and regulatory time limits.

³⁹ See section 733(a) of the Act.

⁴⁰ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Any party, when submitting factual information, must specify under which subsection of 19 CFR 351.102(b)(21) the information is being submitted and, if the information is submitted to rebut, clarify, or correct factual information already on the record, provide an explanation identifying the information already on the record that the factual information seeks to rebut, clarify, or correct.⁴¹ Time limits for the submission of factual information are addressed in 19 CFR 351.301, which provides specific time limits based on the type of factual information being submitted. Interested parties should review the regulations prior to submitting factual information in these investigations.

⁴¹ See 19 CFR 351.301(b).

Extensions of Time Limits

Parties may request an extension of time limits before the expiration of a time limit established under 19 CFR 351.301 or as otherwise specified by the Secretary. In general, an extension request will be considered untimely if it is filed after the expiration of the time limit established under 19 CFR 351.301. For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, standalone submission; under limited circumstances Commerce will grant untimely-filed requests for the extension of time limits. Parties should review Commerce's regulations concerning the extension of time limits prior to submitting extension requests in these investigations.⁴²

⁴² See 19 CFR 351.301; see also Extension of Time Limits; Final Rule, 78 FR 57790 (September 20, 2013), available at http://www.gpo.gov/fdsys/pkg/FR-2013-09-20/html/2013-22853.htm.

Certification Requirements

Any party submitting factual information in an AD or CVD proceeding must certify to the accuracy and completeness of that information.⁴³ Parties must use the certification formats provided in 19 CFR 351.303(g).⁴⁴ Commerce intends to reject factual submissions if the submitting party does not comply with the applicable certification requirements.

⁴³ See section 782(b) of the Act.

⁴⁴ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. Instructions for filing such applications may be found on the Commerce website at http://enforcement.trade.gov/apo. Parties wishing to participate in these investigations should ensure that they meet the requirements of 19 CFR 351.103(d) (e.g., by filing a letter of appearance). Note that Commerce has temporarily modified certain of its requirements for serving documents containing business proprietary information until further notice.⁴⁵

⁴⁵ See Temporary Rule Modifying AD/CVD Service Requirements Due to COVID-19; Extension of Effective Period, 85 FR 41363 (July 10, 2020).

This notice is issued and published pursuant to sections 702 and 777(i) of the Act and 19 CFR 351.203(c).

Dated: October 26, 2021.
Ryan Majerus,
Deputy Assistant Secretary for Policy and Negotiations, Performing the Non-Exclusive Functions and Duties of the Assistant Secretary for Enforcement and Compliance.

Appendix

Scope of the Investigations

The merchandise covered by the investigations is certain oil country tubular goods (OCTG), which are hollow steel products of circular cross-section, including oil well casing and tubing, of iron (other than case iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigations also covers OCTG coupling stock.

Subject merchandise includes material matching the above description that has been finished, packaged, or otherwise processed in a third country, including by performing any heat treatment, cutting, upsetting, threading, coupling, or any other finishing, packaging, or processing that would not otherwise remove the merchandise from the scope of the investigations if performed in the country of manufacture of the OCTG.

Excluded from the scope of the investigations are: Casing or tubing containing 10.5 percent or more by weight of chromium; drill pipe; unattached couplings; and unattached thread protectors.

The merchandise subject to these investigations is currently classified in the Harmonized Tariff Schedule of the United States (HTSUS) under item numbers: 7304.29.1010, 7304.29.1020, 7304.29.1030, 7304.29.1040, 7304.29.1050, 7304.29.1060, 7304.29.1080, 7304.29.2010, 7304.29.2020, 7304.29.2030, 7304.29.2040, 7304.29.2050, 7304.29.2060, 7304.29.2080, 7304.29.3110, 7304.29.3120, 7304.29.3130, 7304.29.3140, 7304.29.3150, 7304.29.3160, 7304.29.3180, 7304.29.4110, 7304.29.4120, 7304.29.4130, 7304.29.4140, 7304.29.4150, 7304.29.4160, 7304.29.4180, 7304.29.5015, 7304.29.5030, 7304.29.5045, 7304.29.5060, 7304.29.5075, 7304.29.6115, 7304.29.6130, 7304.29.6145, 7304.29.6160, 7304.29.6175, 7305.20.2000, 7305.20.4000, 7305.20.6000, 7305.20.8000, 7306.29.1030, 7306.29.1090, 7306.29.2000, 7306.29.3100, 7306.29.4100, 7306.29.6010, 7306.29.6050, 7306.29.8110, and 7306.29.8150.

The merchandise subject to the investigations may also enter under the following HTSUS item numbers: 7304.39.0024, 7304.39.0028, 7304.39.0032, 7304.39.0036, 7304.39.0040, 7304.39.0044, 7304.39.0048, 7304.39.0052, 7304.39.0056, 7304.39.0062, 7304.39.0068, 7304.39.0072, 7304.39.0076, 7304.39.0080, 7304.59.6000, 7304.59.8015, 7304.59.8020, 7304.59.8025, 7304.59.8030, 7304.59.8035, 7304.59.8040, 7304.59.8045, 7304.59.8050, 7304.59.8055, 7304.59.8060, 7304.59.8065, 7304.59.8070, 7304.59.8080, 7305.31.4000, 7305.31.6090, 7306.30.5055, 7306.30.5090, 7306.50.5050, and 7306.50.5070.

The HTSUS subheadings above are provided for convenience and customs purposes only. The written description of the scope of the investigations is dispositive.

[FR Doc. 2021-23714 Filed 10-29-21; 8:45 am]

BILLING CODE 3510-DS-P